DEPARTMENT OF THE INTERIOR

Bureau of Land Management

[LLAZP00000.L122000000.DD0000.LXSSA3610000]

Notice of Temporary Closure of Selected Public Lands in Maricopa and Pinal Counties, AZ

AGENCY: Bureau of Land Management, Interior.

ACTION: Notice of temporary closure.

SUMMARY: Notice is hereby given that the Bureau of Land Management (BLM) will temporarily close certain public lands administered by the Hassayampa and Lower Sonoran Field Offices to all public entry. This temporary closure is needed to ensure public and worker safety during construction of the Baldy Mountain, Box Canyon, Church Camp Road, Narramore Road, and Saddleback Mountain recreational shooting sports sites.

DATES: The subject lands will be closed until, August 4, 2023, or until construction is complete, whichever is sooner.

ADDRESSES: This closure order will be posted in the Phoenix District Office. Maps of the affected area and other documents associated with this closure are available at the Phoenix District Office, 21605 North 7th Avenue, Phoenix, Arizona 85027 and on the project website at: https://go.usa.gov/xmfVv.

FOR FURTHER INFORMATION CONTACT: Irina Ford, Hassayampa Field Office Manager at email: iford@blm.gov; or Katie White Bull, Lower Sonoran Field Office at email: kwhitebull@blm.gov; Phoenix District Office, 21605 North 7th Avenue, Phoenix, Arizona 85027; or at (623) 580-5500. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Baldy Mountain, Church Camp Road, Narramore Road, and Saddleback Mountain sites are in Maricopa County. Box Canyon is in Pinal County. The temporary closure for construction would apply to all five sites. The legal description of the affected public lands are:

Baldy Mountain (Approximately 399 Acres)

Gila and Salt River Meridian, Arizona

T. 6 N., R. 1 W.,

Sec. 10, SE¼NE¼, NE¼SE¼ (portions of);

Sec. 11, SW¼NE¼, S½NW¼, SW¼, NW¼SE¼ (portions of).

Box Canyon (Approximately 478 Acres)

Gila and Salt River Meridian, Arizona

T. 5 S., R. 2 E.,

Sec. 9, N½, N½SW¼, N½SE¼ (portions of).

Church Camp Road (Approximately 495 Acres)

Gila and Salt River Meridian, Arizona

T. 6 N., R. 1 W.,

Sec. 23, SW¼, NW¼SE¼, S½SE¼.

Sec. 26, N½ N½, S½ N½ (portions)

Narramore Road (Approximately 163 Acre)

Gila and Salt River Meridian, Arizona

T. 1 S., R. 5 W.,

Sec. 17, S½SW¼, S½SE¼.

Saddleback Mountain (Approximately 502 Acres)

Gila and Salt River Meridian, Arizona

T. 6 N., R. 1 W.,

Sec. 26, S½; S½ N½ (portions)

Sec. 35, NW¼NE¼, NE¼NW¼.

This temporary closure order is necessary to ensure public and worker safety during construction of the recreational shooting sports sites. The BLM will post closure signs at main entry points to this area. This closure order will be posted in the Phoenix District Office. Maps of the affected area and other documents associated with this closure are available at the Phoenix District Office, 21605 North 7th Avenue, Phoenix, Arizona 85027 and on the project website at: https://go.usa.gov/xmfVv. The temporary closure for construction and operation were analyzed under the Recreational Shooting Sports Project Final Environmental Assessment (January 2020) and in consultation with the Arizona Game and Fish Department. Under the authority of Section 303(a) of the Federal Land Policy and Management Act of 1976 (43 U.S.C. 1733(a)), 43 CFR 8360.0-7, and 43 CFR 8364.1, the BLM will enforce the following closure within the affected areas described earlier.

This temporary closure order closes all the affected areas and in the time period as described earlier to public entry.

Exemptions: These persons would be exempt from the temporary closure order: Federal, state, and local officers and employees in the performance of their official duties; members of organized rescue or firefighting forces in the performance of their official duties; and persons with written authorization from the BLM.

Enforcement: Any person who violates this closure may be tried before a United States magistrate and fined in accordance with 18 U.S.C. 3571, imprisoned no more than 12 months under 43 U.S.C. 1733(a) and 43 CFR 8360.0-7, or both. In accordance with 43 CFR 8365.1-7, State or local officials may also impose penalties for violations of Arizona law.

(Authority: 43 CFR 8364.1)

Leon Thomas,
District Manager.

[FR Doc. 2022-16665 Filed 8-3-22; 8:45 am]

BILLING CODE 4310-32-P